DEPARTMENT OF HEALTH AND HUMAN SERVICES

Centers for Disease Control and Prevention

[30Day-10-0747]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call Maryam I. Daneshvar, the CDC Reports Clearance Officer, at (404) 639-5960 or send an e-mail to omb@cdc.gov. Send written comments to CDC Desk Officer, Office of Management and Budget, Washington, DC or by fax to (202) 395-5806. Written comments should be received within 30 days of this notice.

Proposed Project

Longitudinal follow-up of Youth with Attention-Deficit/Hyperactivity Disorder identified in Community Settings: Examining Health Status, Correlates, and Effects associated with treatment for ADHD (OMB #0920-0747, exp. 7/31/2010)—Revision—National Center on Birth Defects and Developmental Disabilities (NCBDDD), Centers for Disease Control and Prevention (CDC).

Background and Brief Description

This project will collect data from proxy respondents and youths with and without Attention-Deficit/Hyperactivity Disorder (ADHD). This program addresses the Healthy People 2010 focus area of Mental Health and Mental Disorders, and describes the prevalence, incidence, long-term outcomes, treatment(s), select co-morbid conditions, secondary conditions, and health risk behavior of youth with ADHD relative to youth without ADHD.

The National Center on Birth Defects and Developmental Disabilities at CDC promotes the health of children with developmental disorders. As part of these efforts, two contracts were awarded in FY 2007-2010 to follow up a sample of children originally enrolled in community-based epidemiological research on ADHD among elementary-aged youth, known as the Project to Learn about ADHD in Youth (PLAY Study Collaborative), which informed community-based prevalence, rates of comorbidity, and rates of health risk behaviors among elementary-age youth with and without ADHD as determined by a rigorous case definition developed by the principal investigators and in collaboration with CDC scientists.

The purpose of the longitudinal follow-up program is to study the long-term outcomes and health status for children with ADHD identified and treated in community settings through a systematic follow-up of the subjects who participated in the PLAY Study Collaborative. There is a considerable interest in the long-term outcomes of youth with ADHD as well as the effects of treatment, lack of treatment, and quality of care in average U.S. communities, emphasizing the public health importance of longitudinal research in this area.

Given the lack of detailed information about longitudinal development in children with and without ADHD, there is need to continue assessing the children into older adolescence. This program extends data collection for two additional waves.

Minor changes to the assessment instruments are planned in order to include age appropriate assessment of treatment and health risk behaviors in older adolescents, such as understanding motor vehicle operation and dating behavior.

There are no costs to the respondents other than their time. The total annual burden hours are 765.

Estimated Annualized Burden Hours
Type of respondent | Form name | Number of respondents | Responses per respondent | Avg. burden per response (in hours)
Parent | ADHD Communication and Knowledge | 190 | 1 | 10/60
Parent | ADHD Treatment, Cost, and Client Satisfaction Questionnaire | 190 | 1 | 10/60
Parent | ADHD Treatment Questionnaire | 190 | 3 | 7/60
Parent | Brief Impairment Scale | 190 | 1 | 4/60
Parent | Critical School Events (Middle School) | 37 | 2 | 4/60
Parent | Critical School Events (High School) | 153 | 2 | 4/60
Parent | Demographic Survey | 190 | 1 | 5/60
Parent | Health Risk Behavior Survey (Middle School) 11-13 years | 37 | 1 | 18/60
Parent | Health Risk Behavior Survey High School, 14+ years | 153 | 1 | 22/60
Parent | Parent-Child Relationship Inventory | 190 | 1 | 15/60
Parent | Parents' Mental Health Questionnaire | 178 | 1 | 5/60
Parent | Quarterly update form | 190 | 3 | 1/60
Parent | Social Isolation/Support | 178 | 1 | 2/60
Parent | Strengths and Difficulties Questionnaire (SDQ) | 190 | 2 | 3/60
Parent | Vanderbilt Parent Rating Scale | 190 | 2 | 10/60
Child | Brief Sensation Seeking Scale | 190 | 1 | 1/60
Child | Conflict in Adolescent Dating Relationships | 153 | 1 | 10/60
Child | Health Risk Behavior Survey (Middle School) 11-13 years | 37 | 1 | 15/60
Child | Health Risk Behavior Survey (High School) 14+ years | 153 | 1 | 25/60
Child | MARSH—Self Description Questionnaire v I, 7-12 years | 15 | 1 | 5/60
Child | MARSH—Self Description Questionnaire v II, 13-15 years | 90 | 1 | 7/60
Child | MARSH—Self Description Questionnaire v III 16+ years | 85 | 1 | 9/60
Child | Social Inventory (High School) 14+ years | 153 | 1 | 10/60
Child | Olweus Bullying Questionnaire (High School) 14+ years | 153 | 1 | 7/60
Child | Pediatric Quality of Life Child (8-12) | 15 | 1 | 5/60
Child | Pediatric Quality of Life Teen (13+) | 175 | 1 | 5/60
Child | Youth Demographic Survey, 16+ years | 85 | 1 | 5/60
Teacher | Teacher Survey | 949 | 1 | 10/60

Dated: February 1, 2010.
Maryam I. Daneshvar,
Acting Reports Clearance Officer, Centers for Disease Control and Prevention.

[FR Doc. 2010-2600 Filed 2-5-10; 8:45 am]

BILLING CODE 4163-18-P